ENVIRONMENTAL PROTECTION AGENCY

[EPA-HQ-OW-2011-0442; FRL-10003-01-OMS]

Information Collection Request Submitted to OMB for Review and Approval; Comment Request; Microbial Rules (Renewal)

AGENCY: Environmental Protection Agency (EPA).

ACTION: Notice.

SUMMARY: The Environmental Protection Agency (EPA) has submitted an information collection request (ICR) for the Microbial Rules (EPA ICR Number 1895.11, OMB Control Number 2040-0205) to the Office of Management and Budget (OMB) for review and approval in accordance with the Paperwork Reduction Act. This is a proposed extension of the ICR, which is currently approved through July 31, 2022. Public comments were previously requested via the Federal Register on December 15, 2021, during a 60-day comment period. The ICR, a copy of which is in the docket and briefly summarized in this document, describes the covered information collection activities, along with the Agency's estimated burden and cost. An agency may not conduct or sponsor and a person is not required to respond to a collection of information unless it displays a currently valid OMB control number.

DATES: Additional comments may be submitted on or before August 8, 2022.

ADDRESSES: Submit your comments, referencing Docket ID Number EPA-HQ-OW-2011-0442, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Kevin Roland, Drinking Water Protection Division, Office of Ground Water and Drinking Water, (4606M), Environmental Protection Agency, 1200 Pennsylvania Avenue NW, Washington, DC 20460; telephone number: 202-564-4588: fax number: 202-564-3755; email address: roland.kevin@epa.gov.

SUPPLEMENTARY INFORMATION: Supporting documents, which explain in detail the information that EPA will be collecting, are available in the public docket for this ICR. The docket can be viewed online at https://www.regulations.gov or in person at the EPA Docket Center, WJC West, Room 3334, 1301 Constitution Ave. NW, Washington, DC. The telephone number for the Docket Center is 202-566-1744. For additional information about EPA's public docket, visit http://www.epa.gov/dockets.

Abstract: The Microbial Rules ICR examines public water system and primacy agency burden and costs for recordkeeping and reporting requirements in support of the microbial drinking water regulations. The recordkeeping and reporting requirements are mandatory for compliance with the Code of Federal Regulations (CFFR) at 40 CFR parts 141 and 142. The following microbial regulations are included: the Surface Water Treatment Rule (SWTR), the Revised Total Coliform Rule (RTCR), the Interim Enhanced Surface Water Treatment Rule (IESWTR), the Filter Backwash Recycling Rule (FBRR), the Long Term 1 Enhanced Surface Water Treatment Rule (LT1ESWTR), the Long Term 2 Enhanced Surface Water Treatment Rule (LT2ESWTR), the Ground Water Rule (GWR) and the Aircraft Drinking Water Rule (ADWR). Future microbial-related rulemakings will be added to this consolidated ICR after the regulations are promulgated and the initial, rule-specific, ICRs are due to expire.

Form Numbers: None.

Respondents/affected entities: Public water systems and primacy agencies.

Respondent's obligation to respond: Mandatory for compliance with 40 CFR parts 141 and 142.

Estimated number of respondents: 144,273 (total).

Frequency of response: Varies by requirement (i.e., on occasion, monthly, quarterly, semi-annually, and annually).

Total estimated burden: 15,020,711 hours (per year). Burden is defined at 5 CFR 1320.03(b).

Total estimated cost: $1,318,255,000 (per year), includes $174,805,000 annualized capital or operation and maintenance costs.

Changes in the Estimates: There is a decrease of 3,106,871 hours in the total estimated respondent burden compared with the ICR currently approved by OMB. This is due to the replacement of the original Total Coliform Rule with the Revised Total Coliform Rule and updated system inventories.

Courtney Kerwin,
Director, Regulatory Support Division.

[FR Doc. 2022-14492 Filed 7-6-22; 8:45 am]

BILLING CODE 6560-50-P